DEPARTMENT OF COMMERCE

International Trade Administration

Initiation of Antidumping and Countervailing Duty Administrative Reviews, Requests for Revocation in Part and Deferral of Administrative Reviews

AGENCY: Import Administration, International Trade Administration, Department of Commerce

ACTION: Notice of initiation of antidumping and countervailing duty administrative reviews, requests for revocation in part and deferral of administrative reviews.

SUMMARY: The Department of Commerce has received requests to conduct administrative reviews of various antidumping and countervailing duty orders and findings with June anniversary dates. In accordance with the Department's regulations, we are initiating those administrative reviews. The Department also received requests to revoke two antidumping duty orders in part and to defer the initiation of an administrative review of four companies in one antidumping duty order.

EFFECTIVE DATE: July 29, 2003.

FOR FURTHER INFORMATION CONTACT: Holly Kuga, Office of AD/CVD Enforcement, Import Administration, International Trade Administration, U.S. Department of Commerce, 14th Street and Constitution Avenue, NW, Washington, DC 20230, telephone: (202) 482-4737.

SUPPLEMENTARY INFORMATION:

Background

The Department has received timely requests, in accordance with 19 CFR 351.213(b)(2002), for administrative reviews of various antidumping and countervailing duty orders and findings with June anniversary dates. The Department also received timely requests to revoke in part the antidumping duty orders on and Non-Frozen Apple Juice Concentrate and Tapered Roller Bearings and Parts Thereof, Finished and Unfinished, from the People's Republic of China. In addition, the Department received a request to defer for one year the initiation of the June 1, 2002 through May 31, 2003 administrative review of the antidumping duty order on Non-Frozen Apple Juice Concentrate from the People's Republic of China with respect to four exporters in accordance with 19 CFR 351.213(c). The Department received no objection to this request from any party cited in 19 CFR 351.213(c)(1)(ii).

Initiation of Reviews

In accordance with section 19 CFR 351.221(c)(1)(i), we are initiating administrative reviews of the following antidumping and countervailing duty orders and findings. We intend to issue the final results of these reviews not later than June 30, 2004. Also, in accordance with 19 CFR 351.213(c), we are deferring for one year the initiation of the June 1, 2002 through May 31, 2003 administrative review of the antidumping duty order on Non-Frozen Apple Juice Concentrate from the People's Republic of China with respect to four exporters.

| Period to be reviewed
Antidumping Duty Proceedings
Canada: Certain Softwood Lumber, A-122-838 | 05/22/02-05/31/03
Buchanan Lumber ¹
Japan: Certain Large Diameter Carbon and Alloy Seamless Standard, Line, and Pressure Pipe, A-588-850 | 06/01/02-05/31/03
Kawasaki Steel Corporation
Nippon Steel Corporation
NKK Tubes
Sumitomo Metal Industries, Ltd
Taiwan: Certain Stainless Steel Butt-Weld, Pipe Fittings, A-583-816 | 06/01/02-05/31/03
Liang Feng Stainless Steel Fitting Co., Ltd.
PFP Taiwan Co., Ltd.
Ta Chen Stainless Steel Pipe, Ltd.
Tru-Flow Industrial Co., Ltd.
The People's Republic of China: Certain Non-Frozen Apple Juice Concentrate ² A-570-855 | 06/01/02-05/31/03
Gansu Tongda Fruit Juice Beverage Co., Ltd.
Shaanxi Hengxing Fruit Juice Co., Ltd.
Xian Asia Qin Fruit Co., Ltd.
Xian Yang Fuan Juice Co., Ltd.
The People's Republic of China: Folding Metal Tables and Chairs ³ A-570-868 | 12/03/01-05/31/03
Feili Furniture Development Ltd.
Feili Furniture Development Co., Ltd.
Feili Group (Fujian) Co., Ltd.
Feili (Fujian) Co., Ltd.
Dongguan Shichang Metals Factory Co., Ltd.
Dongguang Shchang Metals Factory Co.
Maxchief Investments Ltd.
New-Tec Integration Co., Ltd.
Wok and Pan Industry, Inc.
The People's Republic of China: Tapered Roller Bearings ⁴ A-570-601 | 06/01/02-05/31/03
Peer Bearing Company-Changshan
Yantai Timken Co., Ltd.
Shanghai United Bearing Co., Ltd.
Countervailing Duty Proceedings
None.
Suspension Agreements
None.
¹ Inadvertently omitted from the initiation notice published July 1, 2003 (68 FR 39059).
² If one of the above named companies does not qualify for a separate rate, all other exporters of non-frozen apple juice concentrate from the People's Republic of China who have not qualified for a separate rate are deemed to be covered by this review as part of the single PRC entity of which the named exporters are a part.
³ If one of the above named companies does not qualify for a separate rate, all other exporters of folding metal tables and chairs from the People's Republic of China who have not qualified for a separate rate are deemed to be covered by this review as part of the single PRC entity of which the named exporter is a part.
⁴ If one of the above named companies does not qualify for a separate rate, all other exporters of tapered roller bearings from the People's Republic of China who have not qualified for a separate rate are deemed to be covered by this review as part of the single PRC entity of which the named exporter is a part.

| Period to be deferred
Deferral of Initiation of Administrative Review
People's Republic of China: Non-Frozen Apple Juice Concentrate, A-570-855 | 06/01/02-05/31/03
Sanmenxia Lakeside Fruit Juice Co., Ltd
SDIC Zhonglu Fruit Juice Co., Ltd
Shaanxi Haisheng Fresh Fruit Juice Co., Ltd
Yantai Oriental Juice Company, Ltd

| Period/class or kind
Antifriction Bearing Proceedings and Firms
France: A-427-801 ⁵ | 05/01/02-04/30/03
Ace Bearing & Transmission Co | Ball
Acorn Industrial Service | Ball
Aktif Endustri Malzemeleri | Ball
Alphateam SPRL | Ball
Australian Bearing Pty Ltd | Ball
Baltic Bearing Supply Gmbh | Ball
Bearing & Tool Gmbh | Ball
Bearing Discount International Gmbh | Ball
Bearing Dynamics | Ball
Bearing Net | Ball
Bearing Sales Corp | Ball
BTM Bearing Trade F.C Miltner | Ball
Cantoni & C.S.N.C | Ball
CCVI Bearing Co | Ball
Comal SNC | Ball
DCD Corp | Ball
EuroLatin Ex. Services | Ball
Fair Friend Ent. Co. Ltd | Ball
Friedrich Picard Gmbh | Ball
Froklich & Dorken Gmbh | Ball
Han Sol Tech. Corp/Yoo Shin Co | Ball
Hayley Import/Export | Ball
Heinz Knust | Ball
Hergenhan Gmbh | Ball
Hoens Industriel BV | Ball
IBD Ltd | Ball
International Bearing Pte. Ltd | Ball
Interspecies Donath Gmbh | Ball
Italcuscinetti Group | Ball
Kian Ho Bearings, Ltd | Ball
KIS Antriebs Technik Gmbh | Ball
KSM, Minamiguchi/ Bearing Manufacturing Co | Ball
Kugellager Weber | Ball
LTM Industrietechnik | Ball
M. Buchhalter Maschenmode/Hergenhan | Ball
Micaknowledge | Ball
Minetti SPA | Ball
Ming Hing Trading Co | Ball
Motion Bearing Pte. Ltd | Ball
Rodamientos Rovi | Ball
Roeirasa | Ball
Rolling Bearing Co. Pty Ltd | Ball
Rovi-Marcay | Ball
Rovi-Valencia | Ball
SKF | Spherical
Sprint Engineering | Ball
Taisho Kiko Co. Ltd | Ball
Taninaka Ltd | Ball
Top G Trading Pte Ltd | Ball
Weber Kugellager Int | Ball
Withus Technology Corp | Ball
Wyko Export, Division of Wyko Grp/Wyko-Ewb | Ball
⁵ The companies listed for A-427-801 were inadvertently omitted from the intiation notice that published on July 1, 2003 (68 FR 39055).

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)) and 19 CFR 351.221(c)(1)(i).

Dated: July 23, 2003.
Holly A. Kuga,
Acting Deputy Assistant Secretary, Group II for Import Administration.

[FR Doc. 03-19271 Filed 7-28-03; 8:45 am]

BILLING CODE 3510-DS-P